DEPARTMENT OF EDUCATION

Student Assistance General Provisions, Federal Perkins Loan, Federal Work-Study, Federal Supplemental Educational Opportunity Grant, Federal Family Education Loan, William D. Ford Federal Direct Loan, Federal Pell Grant, and Leveraging Educational Assistance Partnership Programs

AGENCY: Department of Education.

ACTION: Notice of deadline date.

SUMMARY: We give notice that institutions participating in the student financial assistance programs authorized by title IV of the Higher Education Act of 1965, as amended (Title IV, HEA programs), must meet the updated minimum technical hardware and software specifications described in this notice in order to participate in the designated electronic processes that the Department uses in the administration of those programs.

DATES: The provisions in this notice are effective January 1, 2002.

SUPPLEMENTARY INFORMATION: The Student Assistance General Provisions regulations in 34 CFR 668.16(o) provide that the Secretary considers an institution to have administrative capability if it participates in electronic processes that the Secretary identifies in a notice published in the Federal Register and provides at no substantial charge to the institution. On September 19, 1997 (62 FR 49414), we published a notice in the Federal Register that provided the minimum hardware and software technical specifications that an institution had to have in order to participate in those electronic processes. Because of advances in technology it is necessary to update those minimum technical specifications. Beginning January 1, 2002, for the 2002-2003 processing year, institutions must meet the updated minimum hardware and software requirements that appear in the technical specifications table provided under the next heading in order to continue to participate in those electronic processes. Most institutions already have hardware and software that satisfy the updated specifications. We believe that those institutions that have to upgrade hardware or software to meet these standards will be making an investment that will improve their institutional processes at minimal cost.

Technical Specifications

The technical specifications table that follows provides the current and future minimum hardware and software requirements. The table includes two columns of specifications; the left column provides the current specifications, the right column provides the specifications that must be satisfied beginning January 1, 2002. We recommend that participating institutions prepare now to upgrade their equipment and software in time to meet the January 1, 2002, requirements. When reviewing these specifications, institutions should be aware that capacity requirements (processor speed, available memory, hard drive storage, etc.) are greatly affected by specific factors at each institution, including which EDExpress and other Departmental functions the institution uses, the number of records processed, and institutional database interfaces.

We plan to continue to upgrade and enhance our Title IV, HEA program delivery system. Therefore, we recommend that institutions include in their automated data processing budgets, on a regular basis, plans for appropriate hardware and software upgrades and enhancements.

Applicable Regulations

The regulations applicable to this notice are the Student Assistance General Provisions, 34 CFR part 668.

FOR FURTHER INFORMATION CONTACT: For questions relating to these requirements, contact the Customer Service Call Center at 1-800-433-7327. For questions relating to EDExpress software, contact the Central Processing System (CPS) Customer Service at 1-800-330-5947.

If you use a telecommunications device for the deaf (TDD), you may call the Federal Information Relay Service at 1-800-877-8339.

Individuals with disabilities may obtain this document in an alternative format (e.g., Braille, large print, audiotape, or computer diskette) on request to Katie Mincey, Director of Alternate Format Center, U.S. Department of Education, 400 Maryland Avenue, SW., (Switzer Bldg., Room 1000), Washington, DC 20202-4560. Telephone: (202) 260-9895.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC area at (202) 512-1530.

You may also view this document in text or PDF at the following site: http://ifap.ed.gov/csb_html/fedlregnew.htm

Note: The official version of this document is the document published in the Federal Register. Free Internet access to the official edition of the Federal Register and the Code of Federal Regulations is available on GPO Access at: http://www.access.gpo.gov/nara/index.html

Program Authority: 20 U.S.C. 1070a, 1070b-1070b-4, 1070c-1070c-4, 1071-1087-2, 1087a-1087j, 1087aa-1087ii, 1094, and 1099c; 42 U.S.C. 2751-2756b.

(Catalog of Federal Domestic Assistance numbers: 84.007 Federal Supplemental Educational Opportunity Grant (FSEOG) Program; 84.032 Federal Family Education Loan (FFEL) Programs; 84.033 Federal Work-Study (FWS) Program; 84.038 Federal Perkins (Perkins) Loans; 84.063) Federal Pell Grant (Pell) Program; 84.069 Leveraging Educational Assistance Partnership (LEAP) Programs; and 84.268 William D. Ford Federal Direct Loan (Direct Loan) Programs)

Dated: December 19, 2000.
Greg Woods,
Chief Operating Officer, Student Financial Assistance.

[FR Doc. 00-32705 Filed 12-21-00; 8:45 am]

BILLING CODE 4000-01-P